DEPARTMENT OF LABOR

Employment and Training Administration

[TA-W-72,908]

Carolina Telephone and Telegraph Company LLC, a Wholly Owned Subsidiary of Embarq Corporation, a Subsidiary of Centurylink, Inc., New Bern Call Center, New Bern, NC; Notice of Negative Determination Regarding Application for Reconsideration

By application dated July 14, 2010, petitioners requested administrative reconsideration of the Department's negative determination regarding eligibility to apply for Trade Adjustment Assistance (TAA), applicable to workers and former workers of the subject firm. The determination was issued on June 16, 2010. The Department's Notice of determination was published in the Federal Register on July 1, 2010 (75 FR 38142). The petition alleges that a merger of the subject firm with another firm led to duplication of services (call center support services for landline telephone, Internet, and related data communications) and, thus, the closure of the subject facility.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The negative determination was based on the findings that the subject firm did not shift to/acquire from a foreign country services like or directly competitive with the call center support activities provided by the subject workers, nor did the workers supply a service that was used in the production of an article or the supply of a service by a firm whose workers are currently eligible to apply for TAA on the basis of that article or service.

In the request for reconsideration, the petitioner paraphrased the findings as presented in the negative determination and agreed that “[T]here was no shift in work to a foreign country nor was Embarq [parent company of the subject firm] acquired by a foreign country.”

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 4th day of August, 2010.
Del Min Amy Chen,
Certifying Officer, Division of Trade Adjustment Assistance.

[FR Doc. 2010-20031 Filed 8-12-10; 8:45 am]

BILLING CODE 4510-FN-P